DEPARTMENT OF HOMELAND SECURITY

Federal Emergency Management Agency

44 CFR Part 67

[Docket No. FEMA-D-7598]

Proposed Flood Elevation Determinations

AGENCY: Federal Emergency Management Agency (FEMA), Emergency Preparedness and Response Directorate, Department of Homeland Security.

ACTION: Proposed rule.

SUMMARY: Technical information or comments are requested on the proposed Base (1% annual chance) Flood Elevations (BFEs) and proposed BFE modifications for the communities listed below. The BFEs are the basis for the floodplain management measures that the community is required either to adopt or to show evidence of being already in effect in order to qualify or remain qualified for participation in the National Flood Insurance Program (NFIP).

DATES: The comment period is ninety (90) days following the second publication of this proposed rule in a newspaper of local circulation in each community.

ADDRESSES: The proposed BFEs for each community are available for inspection at the office of the Chief Executive Officer of each community. The respective addresses are listed in the table below.

FOR FURTHER INFORMATION CONTACT: Doug Bellomo, P.E., Hazard Identification Section, Emergency Preparedness and Response Directorate, FEMA, 500 C Street SW., Washington, DC 20472, (202) 646-2903.

SUPPLEMENTARY INFORMATION: FEMA proposes to make determinations of BFEs and modified BFEs for each community listed below, in accordance with Section 110 of the Flood Disaster Protection Act of 1973, 42 U.S.C. 4104, and 44 CFR 67.4(a).

These proposed base flood and modified BFEs, together with the floodplain management criteria required by 44 CFR 60.3, are the minimum that are required. They should not be construed to mean that the community must change any existing ordinances that are more stringent in their floodplain management requirements. The community may at any time enact stricter requirements of its own, or pursuant to policies established by other Federal, state or regional entities. These proposed elevations are used to meet the floodplain management requirements of the NFIP and are also used to calculate the appropriate flood insurance premium rates for new buildings built after these elevations are made final, and for the contents in these buildings.

National Environmental Policy Act

This proposed rule is categorically excluded from the requirements of 44 CFR Part 10, Environmental Consideration. No environmental impact assessment has been prepared.

Regulatory Flexibility Act

The Mitigation Division Director of the Emergency Preparedness and Response Directorate certifies that this proposed rule is exempt from the requirements of the Regulatory Flexibility Act because proposed or modified BFEs are required by the Flood Disaster Protection Act of 1973, 42 U.S.C. 4105, and are required to establish and maintain community eligibility in the NFIP. As a result, a regulatory flexibility analysis has not been prepared.

Regulatory Classification

This proposed rule is not a significant regulatory action under the criteria of Section 3(f) of Executive Order 12866 of September 30, 1993, Regulatory Planning and Review, 58 FR 51735.

Executive Order 12612, Federalism

This proposed rule involves no policies that have federalism implications under Executive Order 12612, Federalism, dated October 26, 1987.

Executive Order 12778, Civil Justice Reform

This proposed rule meets the applicable standards of Section 2(b)(2) of Executive Order 12778.

List of Subjects in 44 CFR Part 67

Administrative practice and procedure, flood insurance, reporting and recordkeeping requirements.

Accordingly, 44 CFR Part 67 is proposed to be amended as follows:

PART 67—[AMENDED]

1. The authority citation for Part 67 continues to read as follows:

Authority: 42 U.S.C. 4001 et seq.; Reorganization Plan No. 3 of 1978, 3 CFR, 1978 Comp., p. 329; E.O. 12127, 44 FR 19367, 3 CFR, 1979 Comp., p. 376.

§ 67.4 [Amended]

2. The tables published under the authority of § 67.4 are proposed to be amended as follows:

Source of flooding | Location | #Depth in feet above ground. *Elevation in feet (NGVD) •Elevation in feet (NAVD): Existing | #Depth in feet above ground. *Elevation in feet (NGVD) •Elevation in feet (NAVD): Modified | Communities affected
FLORIDA
Pinellas County
Stevenson Creek | Just upstream of Douglas Avenue | •11 | •10 | Pinellas County (Unincorporated Areas), City of Clearwater, City of Largo.
| Approximately 350 feet upstream of Southridge Drive | None | •42
Spring Branch | Just upstream of Overbrook Road | •11 | •10 | Pinellas County (Unincorporated Areas), City of Clearwater.
| Approximately 1,500 feet upstream of Highland Avenue | None | •28
Flagler Drive Tributary | At the confluence with Stevenson Creek | •15 | •14 | Pinellas County (Unincorporated Areas), City of Clearwater.
| Approximately 1,250 feet upstream of Keene Road | None | •62
Jeffords Street Tributary | At Jeffords Street | •26 | •27 | Pinellas County (Unincorporated Areas), City of Clearwater.
| Approximately 650 feet upstream of Woodcrest Avenue | None | •34
Ponding Area No. 1 | Approximately 250 feet northeast of the intersection of Douglas Avenue and Iva Street in the area of Woodlawn Terrace and Idlewood Drive | None | •21 | City of Clearwater.
Crest Lake | Approximately 500 feet northeast of the intersection of Gulf-to-Bay Boulevard and Glenwood Avenue | None | •69 | City of Clearwater.
Ponding Area No. 15 | Approximately 350 feet southwest of the intersection of South Missouri Avenue and Belleair Road and 350 feet northeast of the intersection of Ponce De Leon Boulevard and Greenwood Avenue | None | •62 | Pinellas County (Unincorporated Areas), City of Clearwater.
Ponding Area No. 2 | At the intersection of Druid Road and Duncan Avenue | None | •61 | City of Clearwater.
Hammond Creek | At the confluence with Stevenson Creek | •11 | •10 | Pinellas County (Unincorporated Areas), City of Clearwater.
| Approximately 325 feet upstream of Highland Avenue | None | •28
Ponding Area No. 3 | Approximately 150 feet northeast of the intersection of Keene Road and Magnolia Drive | None | •46 | Pinellas County (Unincorporated Areas), City of Clearwater.
Ponding Area No. 4 | Approximately 150 feet southwest of the intersection of Keene Road and Magnolia Drive | None | •43 | Pinellas County (Unincorporated Areas).
Ponding Area No. 5 | Approximately 50 feet southeast of the intersection of Keene Road and Magnolia Drive | None | •42 | Pinellas County (Unincorporated Areas).
Lake Rhonda | Approximately 100 feet southeast of the intersection of Magnolia Drive and Keene Road | None | •35 | Pinellas County (Unincorporated Areas).
Ponding Area No. 6 | Approximately 100 feet southwest of the intersection of Highland Avenue and Belleair Road | None | •47 | Pinellas County (Unincorporated Areas), City of Clearwater.
Ponding Area No. 7 | Approximately 500 feet northeast of the intersection of Missouri Avenue and Bellevue Boulevard | None | •61 | City of Clearwater.
Ponding Area No. 8 | Approximately 1,000 feet southeast of the intersection of Lakeview Road and Evergreen Drive in the vicinity of Byron Court | None | •36 | City of Clearwater.
Clearview Lake | Approximately 1,000 feet northwest of Sunset Point Road and Keene Road | None | •57 | City of Clearwater.
Ponding Area No. 9 | At the intersection of North Greenwood Avenue and Palmetto Street | None | •20 | City of Clearwater.
Lake Bellevue Area No. 1 | Approximately 1,000 feet northeast of the intersection of Lakeview Road and Greenwood Avenue | None | •39 | City of Clearwater.
Lake Bellevue Area No. 2 | Approximately 500 feet north of the intersection of Lakeview Road and Greenwood Avenue | None | •40 | City of Clearwater.
Lake Bellevue Area No. 3 | Approximately 250 feet northwest of the intersection of Lakeview Road and Greenwood Avenue | None | •41 | City of Clearwater.
Lake Bellevue Area No. 4 | Approximately 250 feet southwest of the intersection of Lakeview Road and Greenwood Avenue | None | •42 | City of Clearwater.
Lake Bellevue Area No. 5 | Approximately 1,500 feet southwest of the intersection of Lakeview Road and Greenwood Avenue | None | •43 | City of Clearwater.
Lake Bellevue Area No. 6 | Approximately 600 feet north of the intersection of Woodlawn Avenue and South Myrtle Avenue | None | •44 | City of Clearwater.
Lake Bellevue Area No. 7 | Approximately 400 feet north of the intersection of Woodlawn Avenue and South Myrtle Avenue | None | •45 | City of Clearwater.
Lake Bellevue Area No. 8 | Approximately 250 feet north of the intersection of Woodlawn Avenue and South Myrtle Avenue | None | •46 | City of Clearwater.
Lake Bellevue Area No. 9 | Approximately 100 feet north of the intersection of Woodlawn Avenue and South Myrtle Avenue | None | •47 | City of Clearwater.
Lake Bellevue Area No. 10 | Approximately 100 feet south of the intersection of Woodlawn Avenue and South Myrtle Avenue 2 | None | •50 | City of Clearwater.
Lake Bellevue Area No. 11 | Approximately 500 feet south of the intersection of Woodlawn Avenue and South Myrtle Avenue 2 | None | •51 | City of Clearwater.
Lake Bellevue Area No. 12 | Approximately 100 feet south of the intersection of Howard Street and South Myrtle Avenue 2 | None | •53 | City of Clearwater.
Lake Bellevue Area No. 13 | Approximately 250 feet south of the intersection of Howard Street and South Myrtle Avenue 2 | None | •54 | City of Clearwater.
Lake Bellevue Area No. 14 | Approximately 350 feet south of the intersection of Howard Street and South Myrtle Avenue 2 | None | •55 | City of Clearwater.
Lake Bellevue Area No. 15 | Approximately 250 feet northeast of the intersection of Belleair Road and South Myrtle Avenue 2 | None | •56 | City of Clearwater.
Lake Bellevue Area No. 16 | Approximately 500 feet southeast of the intersection of Belleair Road and South Myrtle Avenue 2 | None | •57 | Pinellas County (Unincorporated Areas), City of Clearwater.
Hobart Lake | Approximately 200 feet southwest of the intersection of Casler Avenue and Palmetto Street | None | •67 | City of Clearwater.
Ponding Area No. 10 | Approximately 1,000 feet west of Keene Road and 150 feet north of Hobart Lake | None | •66 | City of Clearwater.
Lake Lucille | Approximately 100 feet southeast of the intersection of Sherwood Street and Nelson Avenue | None | •60 | City of Clearwater.
Ponding Area No. 11 | Approximately 700 feet west of the intersection of Sherwood Street and Keene Road | None | •64 | City of Clearwater.
St. Andrews Lake | Approximately 1,000 feet northeast of the intersection of Airport Drive and Keene Road | None | •68 | City of Clearwater.
Ponding Area No. 13 | At the intersection of North Madison Avenue and Carlton Street | None | •16 | City of Clearwater.
Ponding Area No. 14 | Generally following the southern side of CSX Transportation Railroad tracks in the area where North Greenwood Avenue intersects with Plaza Street | None | •24 | City of Clearwater.
Highland Lake | Approximately 200 feet southwest of the intersection of Valencia Street and Lake Avenue | None | •47 | Pinellas County (Unincorporated Areas).
Ponding Area No. 16 | Approximately 3,000 feet northwest of intersection of Marilyn Street and Hercules Avenue | None | •68 | City of Clearwater.
Ponding Area No. 17 | Approximately 1,500 feet northwest of the intersection of Marilyn Street and Hercules Avenue | None | •69 | City of Clearwater.
Ponding Area No. 12 | At the intersection of Palmetto Street and Pennsylvania Avenue | None | •21 | City of Clearwater.
City of Clearwater
Maps available for inspection at the City of Clearwater Engineering Department, 100 South Myrtle Avenue, Suite 220, Clearwater, Florida.
Send comments to The Honorable Brian Aungst, Mayor of the City of Clearwater, offices of the City Commission, P.O. Box 4748, Clearwater, Florida 33758-4748.
City of Largo
Maps available for inspection at the Largo City Hall, 201 Highland Avenue, Largo, Florida.
Send comments to The Honorable Robert Jackson, Mayor of the City of Largo, Largo City Hall, 201 Highland Avenue, Largo, Florida 33770.
Pinellas County (Unincorporated Areas)
Maps available for inspection at the Pinellas County Building, 315 Court Street, Clearwater, Florida.
Send comments to Mr. Stephen Spratt, Pinellas County Administrator, 315 Court Street, Clearwater, Florida 33756.
NEW JERSEY
Union County
Rahway River | At a point immediately upstream of Lawrence Street | *10 | *9 | City of Rahway, Townships of Clark, Cranford, Springfield, Union, Winfield, Borough of Kenilworth.
| Approximately 400 feet downstream of Springfield Avenue | *90 | *91
Black Brook | At the confluence with Rahway River | *74 | *75 | Borough of Kenilworth, Township of Union.
| Approximately 180 feet downstream of Springfield Road | *74 | *75
Branch 10-30-1 | At the confluence with Drainage Ditch | *71 | *75 | Borough of Kenilworth.
| Approximately 350 feet upstream of Lafayette Place | *74 | *75
College Branch | At the confluence with Rahway River | *70 | *72 | Township of Cranford.
| At a point immediately upstream of Springfield Avenue | *70 | *72
Drainage Ditch | At the confluence with Rahway River | *71 | *73 | Borough of Kenilworth, Township of Springfield.
| At the confluence of Branch 10-30-1 | *71 | *75
Gallows Hill Road Branch | At the confluence with Rahway River | *69 | *71 | Township of Cranford.
| Approximately 350 feet upstream of Pittsfield Street | *70 | *71
Garwood Brook | At the confluence with Rahway River | *68 | *70 | Township of Cranford.
| Approximately 250 feet upstream of West Holly Street | *69 | *70
Nomahegan Brook | At the confluence with Rahway River | *73 | *74 | Townships of Cranford and Springfield, Town of Westfield.
| Approximately 580 feet downstream of Springfield Avenue | *73 | *74
Robinsons Branch | At the confluence with Rahway River | *15 | *14 | City of Rahway, Town of Westfield, Township of Clark.
| At the confluence of Robinsons Branch | *51 | *50
South Branch | At the confluence with Rahway River | *11 | *9 | City of Rahway.
| Approximately 100 feet upstream of East Inman Avenue | *11 | *10
Stream 10-30 | At the confluence with Drainage Ditch | *71 | *74 | Borough of Kenilworth.
| Approximately 100 feet downstream of Willshire Drive | *73 | *74
Vauxhall Branch | At the confluence with Rahway River | *90 | *91 | Township of Union.
| At Liberty Avenue | *90 | *91
Cedar Brook | At Terrill Road | None | *131 | Borough of Fanwood.
| A point immediately upstream of Willow Avenue | None | *141
Vauxhall Sub Branch | At the confluence with Vauxhall Branch | *90 | *91 | Township of Union.
| At Interstate 78 | *90 | *91
West Branch | At the confluence with Elizabeth River | *43 | *42 | Township of Union.
| Approximately 1,400 feet upstream of Garden State Parkway entrance ramp | None | *60
Lightning Brook | At the confluence with Elizabeth River | *56 | *55 | Township of Union.
| Approximately 950 feet downstream of Union Avenue | *56 | *55
Elizabeth River | At Trotters Lane | *27 | *18 | Townships of Union and Hillside.
| Approximately 1,050 feet upstream of Union Avenue | *67 | *68
Trotters Lane Branch | At Morris Avenue | None | *27 | City of Elizabeth.
| Approximately 300 feet downstream of North Avenue | None | *28
Kings Creek | A point immediately upstream of Barnett Street | None | *10 | City of Rahway.
| Approximately 1,000 feet upstream of Lower Road to Rahway | None | *13
East Branch Rahway River | Approximately 450 feet upstream of the confluence with Rahway River | *90 | *91 | Townships of Union and Springfield.
| Approximately 2,800 feet downstream of Vauxhall Road | *90 | *91
Kings Creek | Approximately 715 feet downstream of U.S. Route 9 | *14 | #1 | City of Linden.
| Just downstream of U.S. Route 9 | *16 | #1
Township of Clark
Maps available for inspection at the Clark Township Engineer's Office, Municipal Building, 430 Westfield Avenue, Clark, New Jersey.
Send comments to The Honorable Salvatore Bonaccorso, Mayor of the Township of Clark, Municipal Building, 430 Westfield Avenue, Clark, New Jersey 07066-1590.
Township of Cranford
Maps available for inspection at the Cranford Township Engineer's Office, Municipal Building, 8 Springfield Avenue, Cranford, New Jersey.
Send comments to The Honorable Barbara A. Bilger, Mayor of the Township of Cranford, Municipal Building, 8 Springfield Avenue, Cranford, New Jersey 07016-2199.
City of Elizabeth
Maps available for inspection at the Elizabeth City Engineer's Office, 50 Winfield Scott Plaza, Elizabeth, New Jersey.
Send comments to The Honorable J. Christian Bollwage, Mayor of the City of Elizabeth, City Hall, 50 Winfield Scott Plaza, Elizabeth, New Jersey 07201.
Borough of Fanwood
Maps available for inspection at the Fanwood Borough Engineer's Office, 75 North Martine Avenue, Fanwood, New Jersey.
Send comments to The Honorable Colleen Mahr, Mayor of the Borough of Fanwood, 75 North Martine Avenue, Fanwood, New Jersey 07023-1397.
Township of Hillside
Maps available for inspection at the Hillside Township Engineer's Office, JFK Plaza, Hillside and Liberty Avenue, Hillside, New Jersey.
Send comments to The Honorable Karen McCoy Oliver, Mayor of the Township of Hillside, JFK Plaza, Hillside and Liberty Avenue, Hillside, New Jersey 07205.
Borough of Kenilworth
Maps available for inspection at the Kenilworth Borough Engineer's Office, Municipal Building, 567 Boulevard, Kenilworth, New Jersey.
Send comments to The Honorable Gregg David, Mayor of the Borough of Kenilworth, Municipal Building, 567 Boulevard, Kenilworth, New Jersey 07033-1699.
City of Linden
Maps available for inspection at the Linden City Engineer's Office, Municipal Building, 301 North Wood Avenue, Linden, New Jersey.
Send comments to The Honorable John T. Gregorio, Mayor of the City of Linden, Municipal Building, 301 North Wood Avenue, Linden, New Jersey 07036.
City of Rahway
Maps available for inspection at the Rahway City Engineer's Office, 1 City Hall Plaza, Rahway, New Jersey 07065.
Send comments to The Honorable James J. Kennedy, Mayor of the City of Rahway, 1 City Hall Plaza, Rahway, New Jersey 07065.
Township of Springfield
Maps available for inspection at the Springfield Township Engineer's Office, Municipal Building, 100 Mountain Avenue, Springfield, New Jersey.
Send comments to The Honorable Clara T. Harelik, Mayor of the Township of Springfield, Municipal Building, 100 Mountain Avenue, New Jersey 07081.
Township of Union
Maps available for inspection at the Union Township Engineer's office, Municipal Building, 1976 Morris Avenue, Union, New Jersey.
Send comments to The Honorable Anthony Terrezza, Mayor of the Township of Union, Municipal Building, 1976 Morris Avenue, Union, New Jersey 07083-3579.
Town of Westfield
Maps available for inspection at the Westfield Town Engineer's Office, Municipal Building, 425 East Broad Street, Westfield, New Jersey.
Send comments to The Honorable Gregory McDermott, Mayor of the Town of Westfield, Municipal Building, 425 East Broad Street, Westfield, New Jersey 07090.
Township of Winfield
Maps available for inspection at the Winfield Township Municipal Building, 12 Gulfstream Avenue, New Jersey.
Send comments to The Honorable Norman Whitehouse, Jr., Mayor of the Township of Winfield, 12 Gulfstream Avenue, Winfield, New Jersey 07036.
SOUTH CAROLINA
Florence County
Lynches River | Approximately 0.8 mile upstream of North Jones Road and U.S. Highway 301 | None | *99 | Florence County (Unincorporated Areas).
| Approximately 800 feet downstream of Interstate Highway 95 | None | *120
Sparrow Swamp | Just upstream of W.J. Albert Sims Street | None | *126 | Town of Timmonsville.
| Approximately 1,100 feet upstream of W.J. Albert Sims Street | None | *126
Middle Swamp | State Highway 51/Pamplico Highway | None | *79 | Florence County (Unincorporated Areas), City of Florence.
| Approximately 0.70 mile upstream of State Highway 51/Pamplico Highway | None | *80
Jeffries Creek | Approximately 2,890 feet downstream of the confluence of Pye Branch | None | *80 | Florence County (Unincorporated Areas), City of Florence.
| Approximately 1,200 feet downstream of South Cashua Drive | None | *95
Florence County (Unincorporated Areas)
Maps available for inspection at the Florence County Planning Department, 218 West Evans Street, Florence, South Carolina.
Send comments to Mr. Joe W. King, Florence County Administrator, 180 North Irby Street MSC-G, Florence, South Carolina 29501.
City of Florence
Maps available for inspection at the Florence City Hall, Planning Department, Drawer AA City-County Complex, 180 North Irby Street, Florence, South Carolina.
Send comments to The Honorable Frank Willis, Mayor of the City of Florence, Drawer AA City-County Complex, 180 North Irby Street, Florence, South Carolina 29501.
Town of Timmonsville
Maps available for inspection at the Timmonsville Town Hall, 115 East Main Street, Timmonsville, South Carolina.
Send comments to The Honorable Henry Peoples, Mayor of the Town of Timmonsville, P.O. Box 447, Timmonsville, South Carolina 29161-0447.
WEST VIRGINIA
Cabell County and City of Huntington
Ohio River | At the downstream county boundary | *551 | •550 | Cabell County (Unincorporated Areas), City of Huntington.
| Approximately 8 miles upstream of confluence of Goose Run | *560 | •561
Fourpole Creek | Approximately 200 feet upstream of the Ohio River | *539 | •538 | Cabell County (Unincorporated Areas), City of Huntington.
| Approximately 2,400 feet upstream of Prices Creek Road | None | •703
Indian Fork | Approximately 1,160 feet upstream of confluence with Mud Creek | None | •587 | Cabell County (Unincorporated Areas).
| Approximately 250 feet upstream of Ridge Run Road | None | •640
Kilgore Creek | At the confluence with Indian Fork | None | •587 | Cabell County (Unincorporated Areas).
| Approximately 500 feet upstream of the confluence of Little Creek | None | •611
Lee Creek | At the confluence with Kilgore Creek | None | •590 | Cabell County (Unincorporated Areas).
| Approximately 6,500 feet upstream of Interstate Route 64 | None | •660
Charley Creek | Approximately 1,820 feet upstream of confluence with Mud Creek | None | •602 | Cabell County (Unincorporated Areas).
| Approximately 2,250 feet downstream of Wolfpen Hollow Road | None | •615
Little Creek | At the confluence with Kilgore Creek | None | •610 | Cabell County (Unincorporated Areas).
| Approximately 750 feet upstream of the confluence with Kilgore Creek | None | •611
Arlington Boulevard Tributary | Backwater area along Norwood Road | None | •613 | Cabell County (Unincorporated Areas).
| At the confluence with Guyandotte River | None | •554
| Approximately 150 feet downstream of Arlington Boulevard | None | •554
Grapevine Branch | At the confluence with Fourpole Creek | None | •590 | Cabell County (Unincorporated Areas), City of Huntington.
| Approximately 1,050 feet upstream of the confluence with Fourpole Creek | None | •590
Cabell County (Unincorporated Areas)
Maps available for inspection at the Cabell County office of Grants, Planning and Permits, Cabell County Courthouse, Room 314, Huntington, West Virginia.
Send comments to Ms. Nancy Cartmill, President of the Cabell County Commission, 750 Fifth Avenue, Suite 300, Huntington, West Virginia 25701.
City of Huntington
Maps available for inspection at the City of Huntington Department of Development and Planning, 800 Fifth Street, Room 14, Huntington, West Virginia.
Send comments to The Honorable David Felinton, Mayor of the City of Huntington, P.O. Box 1659, Huntington, West Virginia 25717.

(Catalog of Federal Domestic Assistance No. 83.100, “Flood Insurance.”)
Dated: August 10, 2004.
David I. Maurstad,
Acting Director, Mitigation Division, Emergency Preparedness and Response Directorate.

[FR Doc. 04-18693 Filed 8-13-04; 8:45 am]

BILLING CODE 9110-12-P